DEPARTMENT OF COMMERCE

National Oceanic and Atmospheric Administration

50 CFR Part 218

Regulations Governing the Taking and Importing of Marine Mammals

CFR Correction

This rule is being published by the Office of the Federal Register to correct an editorial or technical error that appeared in the most recent annual revision of the Code of Federal Regulations.

In Title 50 of the Code of Federal Regulations, parts 200 to 227, revised as of October 1, 2025, remove the authority citation for subpart A of part 218, and add an authority citation for part 218 to read “Authority: 16 U.S.C. 1361 et seq.”.

[FR Doc. 2026-00396 Filed 1-9-26; 8:45 am]

BILLING CODE 0099-10-P